DEPARTMENT OF THE INTERIOR

National Park Service

[NPS-WASO-NAGPRA-NPS0026073; PPWOCRADN0-PCU00RP14.R50000]

Notice of Inventory Completion: Florida Department of State, Tallahassee, FL

AGENCY: National Park Service, Interior.

ACTION: Notice.

SUMMARY: The Florida Department of State has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Florida Department of State. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Florida Department of State at the address in this notice by September 24, 2018.

ADDRESSES: Kathryn Miyar, Florida Department of State, Mission San Luis Collections, 2100 West Tennessee Street, Tallahassee, FL 32304, telephone (850) 245-6301, email kathryn.miyar@dos.myflorida.com.

SUPPLEMENTARY INFORMATION: Notice is here given in accordance with the Native American Graves Protection and Repatriation Act (NAGPRA), 25 U.S.C. 3003, of the completion of an inventory of human remains under the control of the Florida Department of State, Tallahassee, FL. The human remains were removed from an unknown location.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the remains was made by the Florida Department of State professional staff in consultation with representatives of Alabama-Coushatta Tribe of Texas (previously listed as Alabama-Coushatta Tribes of Texas); Alabama-Quassarte Tribal Town; Kialegee Tribal Town; Miccosukee Tribe of Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; and Thlopthlocco Tribal Town. Two non-federally recognized Indian groups, the Florida Tribe of Eastern Creek Indians and the Original Miccosukee Simanolee Nation of Aboriginal People were also consulted.

History and Description of the Remains

A braided lock of hair belonging to Osceola, an advisor to the principal chief of the Seminole and leader of Seminole resistance during the Second Seminole War (89M.041.004), in the collection of the Florida Department of State, was donated by one of the descendants of Dr. Frederick Weedon. Weedon, who was a medical doctor under contract to the Army, treated Osceola during his captivity at Ft. Marion and later at Ft. Moultrie (1837-1838). Before he died, Osceola had given a few personal effects to Dr. Weedon, but the braided lock of hair is presumed to have been taken after death. Osceola's postcranial remains were buried at Ft. Moultrie in 1838; however, his head was retained by Dr. Weedon. It is believed that, later, the head was housed at the Surgical and Pathological Museum in New York City, and was lost in the fire that destroyed the museum in 1866.

A lock of Osceola's hair remained with the Weedon family from 1838 until its donation to the Florida Department of State in 1989. Taking a lock of a descendant's hair for a keepsake was a popular western custom in the 1800s. The hair is in a braided plait that is 5¾″ long, and consists of approximately seven strands of hair. Presumably, it had been plaited by a Weedon family member sometime after its acquisition.

Determinations Made by the Florida Department of State

Officials of the Florida Department of State have determined that:

• Pursuant to 25 U.S.C. 3001(9), the human remains described in this notice represent the physical remains of one individual of Native American ancestry.

• Pursuant to 25 U.S.C. 3001(2), there is a relationship of shared group identity that can be reasonably traced between the Native American human remains and the Alabama-Coushatta Tribes of Texas (previously listed as Alabama-Coushatta Tribes of Texas); Alabama-Quassarte Tribal Town; Coushatta Tribe of Louisiana; Kialegee Tribal Town; Miccosukee Tribe of Indians; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; and Thlopthlocco Tribal Town (hereafter, “The Tribes”).

Additional Requestors and Disposition

Lineal descendants or representatives of any Indian Tribe or Native Hawaiian organization not identified in this notice that wish to request transfer of control of these human remains should submit a written request with information in support of the request to Kathryn Miyar, Florida Department of State, Mission San Luis Collections, 2100 West Tennessee Street, Tallahassee, FL 32304, telephone (850) 245-6301, email kathryn.miyar@dos.myflorida.com, by September 24, 2018. After that date, if no additional requestors have come forward, transfer of control of the human remains to The Tribes may proceed.

The Florida Department of State is responsible for notifying The Tribes that this notice has been published.

Dated: July 17, 2018.
Melanie O'Brien,
Manager, National NAGPRA Program.

[FR Doc. 2018-18199 Filed 8-22-18; 8:45 am]

BILLING CODE 4312-52-P